DEPARTMENT OF TRANSPORTATION

Federal Aviation Administration

14 CFR Part 71

[Docket No. 02-AGL-01]

Establishment of Class D Airspace; Marquette, MI; Modification of Class E Airspace; Marquette, MI

AGENCY: Federal Aviation Administration (FAA), DOT.

ACTION: Final rule.

SUMMARY: This action establishes Class D airspace at Marquette, MI, and modifies Class E airspace at Marquette, MI. The opening of a Federal Contract Tower is being planned for the Sawyer International Airport. Class D airspace is required during the hours the control tower is operating. Sawyer International Airport is served by Federal Aviation Regulations Part 121 (14 CFR part 121) air carrier operations. During periods when the control tower is closed, controlled airspace extending upward from the surface is needed to contain aircraft executing instrument flight procedures and provide a safer operating environment. This action establishes Class D airspace, and modifies Class E airspace for Sawyer International Airport.

EFFECTIVE DATE: 0901 UTC, October 3, 2002.

FOR FURTHER INFORMATION CONTACT: Denis C. Burke, Air Traffic Division, Airspace Branch, AGL-520, Federal Aviation Administration, 2300 East Devon Avenue, Des Plaines, Illinois 60018, telephone (847) 294-7568.

SUPPLEMENTARY INFORMATION:

History

On Tuesday, April 2, 2002, the FAA proposed to amend 14 CFR part 71 to establish Class D and modify Class E airspace at Marquette, MI (67 FR 15502). The proposal was to establish Class D airspace, and modify Class E airspace, to support the operation of a Federal Contract Tower, and to provide a safer operating environment after the tower is closed. Interested parties were invited to participate in this rulemaking proceeding by submitting written comments on the proposal to the FAA. No comments objecting to the proposal were received. Class D airspace designations are published in paragraph 5000, and Class E airspace areas extending upward from the surface of the earth in paragraph 6002, of FAA Order 7400.9J dated August 31, 2001, and effective September 16, 2001, which is incorporated by reference in 14 CFR 71.1. The Class D and Class E airspace designations listed in this document will be published subsequently in the Order.

The Rule

This amendment to 14 CFR part 71 establishes Class D airspace and modifies Class E airspace at Marquette, MI, to support the operation of a Federal Contract Tower, and to provide a safer operating environment after the tower is closed. The areas will be depicted on appropriations aeronautical charts.

The FAA has determined that this regulation only involves an established body of technical regulations for which frequent and routine amendments are necessary to keep them operationally current. Therefore, this regulation—(1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 72

Airspace, Incorporation by reference, Navigation (air).

Adoption of the Amendment

In Consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120, E.O. 10854, 24 FR 95665, 3 CFR, 1959-1963 Comp., p. 389.

§ 71.1 [Amended]

2. The incorporation by reference in 14 CFR 71.1 of the Federal Aviation Administration Order 7400.9J, Airspace Designations and Reporting Points, dated August 31, 2001, and effective September 16, 2001, is amended as follows:

Paragraph 5000 Class D airspace

* * * * *

AGL MI D Marquette, MI [New]

Marquette, Sawyer International Airport, MI

(Lat. 46°21′13″ N., long. 87°23′45″ W.)

That airspace extending upward from the surface to and including 3,700 feet MSL within a 4.6-mile radius of the Sawyer International Airport. This Class D airspace area is effective during the specific dates and times established in advance by Notice to Airmen. The effective date and time will thereafter be continually published in the Airport/Facility Directory.

* * * * *

Paragraph 6002 Class E airspace areas extending upward from the Surface of the earth.

* * * * *

AGL MI E2 Marquette, MI [Revised]

Marquette, Sawyer International Airport, MI

(Lat. 46°21′13″ N., long. 87°23′45″ W.)

That airspace extending upward from the surface within a 4.6-mile radius of the Sawyer International Airport. This Class E airspace area is effective during the specific dates and times established in advance by Notice to Airmen. The effective date and time will thereafter be continually published in the Airport/Facility Directory.

* * * * *

Issued in Des Plaines, Illinois on June 19, 2002.
Nancy B. Shelton,
Manager, Air Traffic Division, Great Lakes Region.

[FR Doc. 02-17372 Filed 7-9-02; 8:45 am]

BILLING CODE 4910-13-M